DEPARTMENT OF ENERGY

10 CFR Chs. II, III, and X

RIN 1904-AA78

Semiannual Regulatory Agenda; Clarification

AGENCY: Department of Energy.

ACTION: Semiannual Regulatory Agenda; clarification.

SUMMARY: The Department of Energy is clarifying its discussion of one of the items (Residential Furnaces, Boilers, and Mobile Home Furnaces) in the Semiannual Regulatory Agenda, 68 FR 30192, 30195 (May 27, 2003).

DATES: This correction is made as of July 8, 2003.

FOR FURTHER INFORMATION CONTACT: For information on Energy Efficiency Standards for Residential Furnaces, Boilers, and Mobile Home Furnaces contact: Mohammed Khan, Room 1J-018, Forrestal Building, 1000 Independence Avenue SW., Washington, DC 20585, mohammed.khan@hq.doe.gov, (202) 586-7892. For information on the Regulatory Agenda in general, please contact: Richard L. Farman, Room 6E-078, Forrestal Building, 1000 Independence Avenue SW., Washington, DC 20585, richard.farman@hq.doe.gov, (202) 586-8145.

SUPPLEMENTARY INFORMATION: In the fall of 2002, DOE designated the Energy Efficiency Standards for Residential Furnaces, Boilers, and Mobile Home Furnaces as high priority in The FY2003 Priority Setting Summary Report and Actions Proposed, which the Office of Building Technologies Program, U.S. Department of Energy, published on August 22, 2002.

In the Department of Energy's most recent Semiannual Regulatory Agenda notice, 68 FR 30195 (May 27, 2003), the Department inadvertently noted in its discussion of the Energy Efficiency Standards for Residential Furnaces, Boilers, and Mobile Home Furnaces that “the Department is reclassifying this action as low priority, pending further review.”

The Department of Energy has not reclassified this action as a low priority and remains committed to getting public input before making decisions on the priorities for its rulemakings. As the Office of Building Technologies Program described in its 1996 Procedures for Consideration of New or Revised Energy Conservation Standards for Consumer Products (Process Rule), 61 FR 36974, 36976, 36982 (July 15, 1996), the program will prepare an analysis of pending or prospective rulemakings at least once a year. The program will invite the public to review and comment on the program's priority analysis prior to making any changes to its priority designation. As noted in the Semiannual Regulatory Agenda published May 27, 2003, the program will be seeking comments from stakeholders regarding the priority status of Residential Furnaces, Boilers, and Mobile Home Furnaces. In addition, the program will be seeking comments on its prioritization of all current rulemakings this summer. The program fully intends to follow the Process Rule and provide stakeholders with an opportunity to comment.

Issued in Washington, DC, on July 2, 2003.
Douglas L. Faulkner,
Principal Deputy Assistant Secretary, Energy Efficiency and Renewable Energy.

[FR Doc. 03-17196 Filed 7-7-03; 8:45 am]

BILLING CODE 6450-01-P